DEPARTMENT OF LABOR

Employment and Training Administration

[TA-W-58,663]

Classic Print Products, Inc., Burlington, NC; Dismissal of Application for Reconsideration

Pursuant to 29 CFR 90.18(C) an application for administrative reconsideration was filed with the Director of the Division of Trade Adjustment Assistance for workers at Classic Print Products, Inc., Burlington, North Carolina. The application did not contain new information supporting a conclusion that the determination was erroneous, and also did not provide a justification for reconsideration of the determination that was based on either mistaken facts or a misinterpretation of facts or of the law. Therefore, dismissal of the application was issued.

TA-W-58,663; Classic Print Products, Inc. Burlington, North Carolina (March 16, 2006)

Signed at Washington, DC, this 12th day of April 2006.
Erica R. Cantor,
Director, Division of Trade Adjustment Assistance.

[FR Doc. E6-5767 Filed 4-17-06; 8:45 am]

BILLING CODE 4510-30-P